DEPARTMENT OF AGRICULTURE

Food and Nutrition Service

Agency Information Collection Activities: Proposed Collection; Comment Request: Additional Information To Be Collected Under the Uniform Grant Application Package for Discretionary Grant Programs for the WIC Farmers' Market Nutrition Program Benefit Delivery Modernization (FMNP BDM) Grants

AGENCY: Food and Nutrition Service (FNS), USDA.

ACTION: Notice.

SUMMARY: This Notice announces that the United States Department of Agriculture's (USDA) Food and Nutrition Service (FNS) plans to add WIC Farmers' Market Nutrition Program Benefit Delivery Modernization (FMNP BDM) Grants, as authorized under Section 1106 of the American Rescue Plan Act (ARPA) (Pub. L. 117-2), to its list of approved programs under the Uniform Grant Application for Non-Entitlement Discretionary Grants, as approved under OMB Control Number: 0584-0512 (Expiration Date: July 31, 2022); and that FNS intends to collect additional information for FMNP BDM Grants outside of what is currently in the uniform package. This Notice solicits public comments on the additional information to be collected for the FMNP BDM Grants.

DATES: (if applicable): To be assured of consideration, written comments must be submitted or postmarked on or before December 13, 2021.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

Comments must be submitted through one of the following methods:

• Preferred method: Submit information through the Federal eRulemaking Portal at http://www.regulations.gov. Follow the online instructions for submissions.

• Email: Send comments to rebecca.rash@usda.gov with a subject line “FMNP Benefit Delivery Modernization Information Collection.”

FOR FURTHER INFORMATION CONTACT: Rebecca Rash on behalf Sarah Widor, Supplemental Food Programs Division, Food and Nutrition Service, U.S. Department of Agriculture, 1320 Braddock Place, Alexandria, Virginia 22314, 703-305-2937, or email rebecca.rash@usda.gov.

SUPPLEMENTARY INFORMATION: The United States Department of Agriculture's (USDA) Food and Nutrition Service (FNS) is establishing a new grant program for State agencies that administer the WIC Farmers' Market Nutrition Program (FMNP) aimed at modernizing benefit delivery and reducing disparities in program delivery, under the authorization and funding provided in section 1106 of the American Rescue Plan Act (ARPA) (Pub. L. 117-2).

The WIC FMNP Benefit Delivery Modernization (FMNP BDM) Grants will be offered in multiple rounds. As planned, $1 million to $5 million will be offered to State agencies in early 2022 for the first round of grants to support the modernization of FMNP benefit delivery by supporting the transition from a paper-based benefit to an electronic, mobile benefit solution readily available in the marketplace.

For the first round of grant funding, eligible entities will submit an application using FNS' Uniform Grant Application for Discretionary Grant Programs (OMB Control Number: 0584-0512, Expiration Date: July 31, 2022), which will include up to ten additional questions related to the goals of the FMNP BDM Grant. These questions will be outlined in the Request for Applications for the FMNP BDM Grant. State agencies will have the option to use any format to answer the questions. The additional questions included will relate to how FMNP State agencies will utilize FMNP BDM grant funding and how the State agency's project will: (1) Implement and support an existing mobile WIC FMNP solution, which will modernize benefit delivery for State agencies, participants, and farmers and farmers' markets; and (2) increase FMNP benefit utilization. This will include submission of data about number of participants, current benefit level, number of authorized farmers/markets, and number of local agencies. Additional information that State agencies will need to provide includes a letter of commitment from the anticipated provider of the electronic benefit delivery system, the names of any State agencies participating if part of a consortium grant, how the implementation will satisfy applicable privacy and data security standards, and other information that ensures the proposed use of the grant complies with current program regulations.

To measure impact of the grants and to determine whether the grants achieve their intended purposes, grantees will be required to provide narrative, semiannual progress reports using the FNS-908 Performance Progress Report (PPR) form, as a condition to accepting grant funding. On the semiannual FNS-908 PPR, grantees will also be asked to respond to six questions related to progress made toward achieving the goals of the grant program. These questions may include updates to any data submitted in the grant application. The six additional questions will be outlined in the Request for Applications for the FMNP BDM Grants.

With the additional information that will be requested, FNS estimates that each State agency will spend a total of approximately 59.33 hours completing the full grant application package. Under 0584-0512, FNS has 109,667 remaining burden hours and 21,835 remaining responses available for use. Under the FMNP BDM Grant, State agencies are expected to use 4,792.73 burden hours and 1,377 responses for the pre-award, post-award and recordkeeping burden, including the additional information to be collected. All three items make up the burden for the competitive grants that are submitted under 0584-0512.

The purpose of this Notice is to solicit public comments on the additional information to be collected for the FMNP BDM Grants through the ten question application questionnaire and through the six question semiannual progress reports for the grant program. Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

FNS will utilize these comments to adjust the information collection as necessary.

Cynthia Long,
Administrator, Food and Nutrition Service.

[FR Doc. 2021-24662 Filed 11-10-21; 8:45 am]

BILLING CODE 3410-30-P